MORRIS K. UDALL SCHOLARSHIP AND EXCELLENCE IN NATIONAL ENVIRONMENTAL POLICY FOUNDATION

The United States Institute for Environmental Conflict Resolution; Agency Information Collection Activities; Extension of Currently Approved Information Collection; Comment Request

AGENCY: Morris K. Udall Scholarship and Excellence in National Environmental Policy Foundation, U.S. Institute for Environmental Conflict Resolution

ACTION: Notice; U.S. Institute for Environmental Conflict Resolution application for the National Roster of Environmental Dispute Resolution and Consensus Building Professionals.

SUMMARY: In compliance with the Paperwork Reduction Act and supporting regulations, this document announces that the U.S. Institute for Environmental Conflict Resolution (the Institute), part of the Morris K. Udall Foundation, is planning to submit to the Office of Management and Budget (OMB) a request for an extension for the currently approved information collection (ICR), OMB control Number 3320-0008: Application for the National Roster of Environmental Dispute Resolution and Consensus Building Professionals (“National Roster of ECR Practitioners” or “roster”), currently operating pursuant to OMB clearance issued October 17, 2002 and which expires October 31, 2005. Before submitting the extension to OMB for review and approval, the Institute is soliciting comments regarding the information collection (see section C. below entitled “Questions to Consider in Making Comments”). This document provides information on the continuing need for the Roster of ECR Practitioners Application and the information recorded in the application.

DATES: Comments must be submitted on or before August 19, 2005.

ADDRESSES: Direct comments to Joan C. Calcagno, Roster Manager, U.S. Institute for Environmental Conflict Resolution, 130 South Scott Ave., Tucson, Arizona 85701. Fax: 520-670-5530. Phone: 520-670-5299. E-mail: roster@ecr.gov.

FOR FURTHER INFORMATION CONTACT: Direct questions and requests for information, including copies of the ICR, to Joan C. Calcagno, Roster Manager, U.S. Institute for Environmental Conflict Resolution, 130 South Scott Ave., Tucson, Arizona 85701. Fax: 520-670-5530. Phone: 520-670-5299. E-mail: roster@ecr.gov.

SUPPLEMENTARY INFORMATION:

A. Title for the Collection of Information

Application for National Roster of Environmental Dispute Resolution and Consensus Building Professionals (“National Roster of ECR Practitioners”).

B. Potentially Affected Persons

You are potentially affected by this action if you are a dispute resolution or consensus building professional in the environmental or natural resources field who wishes to be listed on the National Roster of Environmental Dispute Resolution and Consensus Building Professionals.

C. Questions To Consider in Making Comments

The U.S. Institute for Environmental Conflict Resolution requests your comments to any of the following questions related to collecting information for the extension of the Application for the National Roster of ECR Practitioners:

(1) Is the continued use of the application (“collection of information”) necessary for the proper performance of the functions of the agency, including whether the information has practical utility?

(2) Is the agency's estimate of the time spent completing the application (“burden of the proposed collection of information”) accurate, including the validity of the methodology and assumptions used?

(3) Can you suggest ways to enhance the quality, utility, and clarity of the information collected?

(4) Can you suggest ways to minimize the burden of the collection of information on those who are to respond, including through the use of appropriate automated electronic, mechanical, or other technological collection techniques or other forms of information technology?

D. Abstract

The U.S. Institute for Environmental Conflict Resolution plans to continue collecting information from environmental dispute resolution and consensus building neutral professionals who desire to become members of the National Roster of ECR Practitioners, from which the Institute and those involved in environmental, natural resource, or public lands disputes may locate providers of neutral services. Responses to the collection of information (the application) are voluntary, but required to obtain a benefit (listing on the National Roster of Environmental Dispute Resolution and Consensus Building Professionals.) An agency may not conduct or sponsor, and a person is not required to respond to, a collection of information unless it displays a currently valid OMB control number.

Background Information: U.S. Institute for Environmental Conflict Resolution.

The U.S. Institute for Environmental Conflict Resolution was created in 1998 by the Environmental Policy and Conflict Resolution Act (Pub. L. 105-156). The U. S. Institute is a federal program established by the U. S. Congress to assist parties in resolving environmental, natural resource, and public lands conflicts. The Institute is part of the Morris K. Udall Foundation, an independent federal agency of the executive branch overseen by a board of trustees appointed by the President. The Institute serves as an impartial, non-partisan institution providing professional expertise, services, and resources to all parties involved in such disputes, regardless of who initiates or pays for assistance. The Institute helps parties determine whether collaborative problem solving is appropriate for specific environmental conflicts, how and when to bring all the parties to the table, and whether a third-party facilitator or mediator might be helpful in assisting the parties in their efforts to reach consensus or to resolve the conflict. In addition, the Institute maintains the National Roster of ECR Practitioners, a roster of qualified facilitators and mediators with substantial experience in environmental conflict resolution, and can help parties in selecting an appropriate neutral. The Institute accomplishes most of its work by partnering, contracting with, or referral to, experienced practitioners.

The Need for and Use of the Information Collected in the Application for the Roster of ECR Practitioners

Roster of ECR Practitioners Application: The application can be viewed on-line from the Institute's Web site: http://www.ecr.gov (simply register in the application system to access and review an application). A hardcopy application may also be obtained from the Institute for those without web access (see FOR FURTHER INFORMATION CONTACT above).

Background Information: The information collected in the application for the National Roster of ECR Practitioners is the basis for an on-line database, searchable by a combination of 10 criteria designed to locate appropriate practitioners by matching desired characteristics with the information in the application. The application was first available in September 1999 and remains available on a continuous basis. The Roster of ECR Practitioners first became operational in February 2000 with 60 members and currently includes over 255 members from 41 states, the District of Columbia, and 2 Canadian provinces. They represent a broad cross-section of professional backgrounds and a broad distribution of case experience across 42 types of case issues. Each member has documented experience which meets the roster entry criteria, and each has experience as a neutral in some or all of the following: Mediation, facilitation, consensus building, process design, conflict assessment, system design, neutral evaluation/fact finding, superfund allocation, and/or regulatory negotiation.

The specific entry criteria and applicable definitions are available from the Institute's Web site: http://ecr.gov/roster.htm. Generally stated, the entry criteria require that an applicant has:

(1) Served as the lead neutral in a collaborative process (e.g., mediation, consensus building, conflict assessment) for at least 200 case hours in two to ten environmental cases, and

(2) Accumulated a total of 60 points across three categories: Additional case experience and complex case experience; experience as a trainer or trainee; and substantive work/volunteer/educational experience in fields related to Alternative Dispute Resolution/Environmental Conflict Resolution, such as law, science, public administration.

Use of the National Roster of ECR Practitioners: The roster search and referral service has been accessible through the Institute since February 2000. The Institute uses the roster (specifically the information collected in the application) as a resource when making referrals to those searching for neutral ECR professionals with specific experience, backgrounds, or expertise (external referrals). The Institute also uses the roster as a resource when locating appropriate ECR neutral professionals with whom to partner/sub-contract for projects in which the Institute is involved (internal referrals), pursuant to the Institute's statutory direction to work with practitioners located near the dispute, when practicable and appropriate. The roster referral system is enhanced through cooperation with existing programs and networks of environmental dispute-resolution and consensus-building practitioners familiar with the issues in their respective states and regions.

In October 2004, the roster became directly available on the web to anyone interested in locating ECR practitioners. Since then anyone interested in locating ECR practitioners can contact the Institute for a referral through the Roster Manager or register in the search system and search the roster themselves. The Roster Manager remains available to assist searchers in getting the best use of the roster search and to provide advice about next steps.

The Environmental Protection Agency (EPA) Alternative Dispute Resolution (ADR) personnel have had direct, electronic access to search the roster since February 2000. The Department of Interior Office of Collaborative Action and Dispute Resolution and ADR personnel from various DOI bureaus have had direct access since November 2002. Roster Members have also had direct access to the search since May 2004. Statistics related to the use of the roster since February 2000 can be found in the Roster Program Overview, available from: http://ecr.gov/roster/progsumm.html.

Federal agencies are not required to select from the roster. Professionals not on the roster remain fully eligible to serve as ECR practitioners in disputes involving federal agencies. Finally, being listed on the roster does not guarantee additional work for the practitioner.

Development and Need for the National Roster of ECR Practitioners: The roster was developed with the support of the Environmental Protection Agency. Based on a 1997 study concerning the potential of a national roster of qualified practitioners, EPA decided to support the development of such a roster through the Institute.

To develop the project, the EPA and the Institute brought together a work group consisting of EPA dispute resolution professionals and contracting officers, state dispute resolution officials, private dispute resolution practitioners and academics. Informed in part by ideas from this group, the EPA and the Institute proposed roster entry qualifications and draft application, which were published in the Federal Register in November 1998. Before the entry criteria and application were finalized, the comments received in response to the Federal Register notice were reviewed. Outreach continued through meetings and newsletter articles, as well as individual communications to professional associations, state and federal government agencies, dispute resolution firms, individual practitioners, professional associations of attorneys, environmental and citizen groups.

The roster was created, and continues to be needed, for several reasons. The use of Alternative Dispute Resolution in the environmental and public policy arena has grown markedly over the last two decades. In this context, ADR processes now include techniques ranging from conflict prevention, such as consensus building and facilitation of public policy dialogues, to specific dispute resolution through assisted negotiations and mediation. The number of environmental conflict resolution (ECR) practitioners has grown as the field has gained prominence and professionals from a variety of disciplines have become attracted to its advantages and opportunities.

An essential step in any dispute resolution process occurs when parties select a practitioner. Parties making the selection rightfully expect that the practitioner will be qualified to provide the service sought and has experience and style matched well to the nature of the issues and to the parties. Thus, the National Roster of ECR Practitioners is designed to advance the interests of the growing field of dispute resolution, reflect the evolving standards of best practice, and help direct the expenditure of public funds for quality services.

In fifteen years of using ADR, before the creation of the National Roster of ECR Practitioners, EPA found that parties to a dispute or controversy generated a list of desired characteristics, such as experience with specific types of issues, cases or disputes, location, and other factors, that they would use in an attempt to identify the right person to assist them. Locating practitioners meeting these criteria was often a “hit-or-miss” experience depending on the resources, available time, and experience of the parties with locating appropriate neutrals.

Although the EPA operates a national service contract that manages major cases through a list of experienced providers, it is limited in scope and membership, and as a consequence it can be burdensome to use to identify neutrals for small or localized cases. Most other Federal agencies have no vehicle or information available to assist in this important first step to conducting a good dispute resolution process.

More specifically, the National Roster of ECR Practitioners is necessary for the proper performance of the Institute's goals: to resolve Federal environmental disputes in a timely and constructive manner; to increase the appropriate use of environmental conflict resolution; to improve the ability of Federal agencies and other interested parties to engage in ECR effectively; and to promote collaborative problem-solving and consensus-building during the design and implementation of Federal environmental policies so as to prevent and reduce the incidence of future environmental disputes.

In addition, the U.S. Institute's enabling legislation directs the Institute to work with practitioners located near the conflict whenever practical. Consistent with this mandate, the Institute must be able to identify appropriate experienced dispute resolution and consensus building professionals in an efficient manner.

Finally, the Administrative Dispute Resolution (ADR) Act of 1996 (5 U.S.C. 571 et seq.) authorizes the Federal government to contract with dispute resolution professionals (e.g., facilitators or mediators) to assist it and other parties to disputes in reaching an agreement, settlement, or consensus. The ADR Act authorizes the government to take steps to make identifying and contracting with neutrals easier (cf. 5 U.S.C. 573(c)).

Thus, the goal of the National Roster of ECR Practitioners and the referral system is to improve access to qualified environmental dispute resolution and consensus building professionals for the Institute and others sponsoring or engaging in environmental conflict resolution processes. The roster expedites the identification of appropriate professionals, shortens the time needed to complete contracting documents, and helps refer parties to practitioners, particularly practitioners in the locale of the dispute.

Preliminary feedback from users of the roster search system indicates that: they would recommend the roster as a primary source for locating ECR practitioners; the roster increases the likelihood of selecting appropriate practitioners; and the roster is a systematic and efficient way to identify practitioners.

The roster and the referral system provide an efficient, credible and user-friendly source from which to systematically identify experienced environmental neutral professionals; increase the use of collaborative processes by providing a useful tool for locating appropriate practitioners; and provide users with a detailed Practitioner Profiles, reflecting information contained in the application, to be used as a helpful first step in the process of selecting an appropriate neutral.

E. Burden Statement

The application compiles data available from the resumes of dispute resolution and consensus building professionals into a format that is standardized for efficient and fair eligibility review, database searches, and retrievals. A professional needs to complete the form only one time. Once the application is approved, the roster member has continual access to his or her on-line account to update information, on a voluntary basis. The burden includes time spent to review instructions, review resume information, and enter the information in the form.

Likely Respondents: Environmental dispute resolution and consensus building professionals (new respondents); existing roster members (for updating)

Proposed Frequency of Response: One, with voluntary updates approximately once per year.

Estimated Number of New Respondents (first extension year): 30.

Estimated Number of Existing Respondents—for updating (first extension year): 125.

Estimated Number of New Respondents (per year for succeeding year): 30.

Estimated Number of Existing Respondents—for updating (per year for succeeding year): 125.

Respondent Time Burden Estimates:

Estimated Time per New Response: 150 minutes (2.5 hours).

Estimated Number of Updates (per year): 1, for 125 existing respondents.

Estimated Time for Update: 15 minutes.

Estimated Total First Extension Year Burden: 4500 minutes (75 hours) (30 new respondents); 1875 minutes (31.25 hours) (125 updates).

Estimated Total Subsequent Year Annual Burden: 4500 minutes (75 hours) (30 new respondents); 1875 minutes (31.25 hours) (125 updates).

Respondent Cost Burden Estimates (at $150 per hour): No capital or start-up costs.

Estimated Cost per Respondent (first extension year): $375 (new respondents); $38 (updates).

Estimated Cost per Respondent (subsequent year): $375 (new respondents); $38 (updates).

Estimated Total First Extension Year Burden: $11,250 (new respondents); $4,750 (updates).

Estimated Total Subsequent Year Annual Burden: $11,250 (new respondents); $4,750 (updates).

Burden means the total time, effort, or financial resources expended by persons to generate, maintain, retain, or disclose or provide information to or for a Federal agency. This includes the time needed to review instructions; develop, acquire, install, and utilize technology and systems for the purpose of collecting, validating, and verifying information, processing and maintaining information, and disclosing and providing information and transmitting information.

(Authority: 20 U.S.C. 5601-5609)

Dated the 14th day of June 2005.
Christopher L. Helms,
Executive Director, Morris K. Udall Scholarship and Excellence in National Environmental Policy Foundation, and Federal Register Liaison Officer.

[FR Doc. 05-12073 Filed 6-17-05; 8:45 am]

BILLING CODE 6820-FN-P